DEPARTMENT OF DEFENSE

Department of the Army, Corps of Engineers

Notice of Availability of The Great Lakes and Mississippi River Interbasin Study—Brandon Road Integrated Feasibility Study and Environmental Impact Statement—Will County, Illinois

AGENCY: Department of the Army, U.S. Army Corps of Engineers, DoD.

ACTION: Extension of public comment period.

SUMMARY: The U.S. Army Corps of Engineers (USACE), Rock Island and Chicago Districts, are extending the comment period for the report “The Great Lakes and Mississippi River Interbasin Study (GLMRIS)—Brandon Road Integrated Feasibility Study and Environmental Impact Statement (EIS)—Will County, Illinois,” (Final GLMRIS-Brandon Road Report & EIS) for 14 days in response to stakeholder requests for an extension, from December 24, 2018 to January 7, 2019.

DATES: The comment period is extended for the Final GLMRIS-Brandon Road Report & EIS published in the Federal Register on November 23, 2018 (83 FR 59378).

ADDRESSES: The Final GLMRIS-Brandon Road Report & EIS are posted at https://www.mvr.usace.army.mil/GLMRIS-BR.

FOR FURTHER INFORMATION CONTACT: U.S. Army Corps of Engineers, Rock Island District, ATTN: GLMRIS-Brandon Road EIS, Clock Tower Building, P.O. Box 2004, Rock Island, IL 61204-2004.; or contact online at https://www.mvr.usace.army.mil/GLMRIS-BR.

SUPPLEMENTARY INFORMATION: The USACE is issuing this notice pursuant to section 102(2)(c) of the National Environmental Policy Act of 1969 (NEPA), as amended (42 U.S.C. 4332 et seq.) and the Council on Environmental Quality regulations for implementing the procedural provisions of NEPA (43 CFR parts 1500 through 1508). This notice announces the availability of the final GLMRIS-Brandon Road EIS. The Final GLMRIS-Brandon Road Report & EIS, its appendices, and other supporting documents can be accessed at: https://www.mvr.usace.army.mil/GLMRIS-BR.

Background Information

The Draft GLMRIS-Brandon Road EIS was released on August 18, 2017, and included a 112-day public comment period that ended on December 8, 2017. During that time, USACE held four meetings to solicit comments from the public. USACE analyzed the comments received from the public (Appendix K) and considered them in preparation of the Final GLMRIS-Brandon Road EIS. This EIS provided the necessary information for the public to fully evaluate a range of alternatives designed to meet the purpose and need of the Final GLMRIS-Brandon Road Report & EIS and to provide thoughtful and meaningful comment for the Agency's consideration.

The Final GLMRIS-Brandon Road Report & EIS identifies six alternatives including no new action (continuing current efforts); the nonstructural alternative; and three technology alternatives using an electric barrier and/or acoustic fish deterrent and lock closure. The effectiveness of these alternatives was considered against the three different modes of ANS transport, swimming, floating, and hitchhiking. Selection of a Recommended Plan required careful evaluation of each alternative's (1) reduction in the probability of establishment in the Great Lakes Basin, (2) relative life safety risk, (3) system performance robustness and (4) costs, which include construction; mitigation; operation and maintenance, repair, replacement and rehabilitation; and navigation impacts. Evaluation also included careful consideration of cost effectiveness and incremental cost analyses, significance of the Great Lakes Basin's ecosystem, acceptability, completeness, efficiency, and effectiveness. Based on the results of the evaluation and comparison of the alternatives, the Recommended Plan is the Technology Alternative—Acoustic Fish Deterrent with Electric Barrier, which includes the following measures: Nonstructural measures, acoustic fish deterrent, bubble curtain, engineered channel, electric barrier, flushing lock, and boat ramps. The Final GLMRIS-Brandon Road Report & EIS identifies potential significant adverse impacts that alternatives may have on existing uses and users of the waterways.

Dated: December 14, 2018.
Dennis W. Hamilton,
Chief, Programs and Project Management Division.

[FR Doc. 2018-27739 Filed 12-20-18; 8:45 am]

BILLING CODE 3720-58-P